UNITED STATES INSTITUTE OF PEACE

Announcement of the Fall Unsolicited Grant Competition Grant Program

AGENCY: United States Institute of Peace.

ACTION: Notice.

SUMMARY: The Agency announces its Upcoming Fall Unsolicited Grant Deadline, which offers support for research, education and training, and the dissemination of information on international peace and conflict resolution.

Deadline: October 1, 2001.

DATES: Application Material Available on Request.

Receipt Date for Return of Application: October 1, 2001.

Notification of Awards: February 1, 2002.

ADDRESSES: For Application Package: United States Institute of Peace, Grant Program • Unsolicited Grants, 1200 17th Street, NW • Suite 200, Washington, DC 20036-3011, (202) 429-3842 (phone), (202) 429-6063 (fax), (202) 457-1719 (TTY), Email: grant_program@usip.org.

Applications also available on-line at our web site: www.usip.org.

FOR FURTHER INFORMATION CONTACT: The Grant Program, Phone (202)-429-3842.

Dated: June 12, 2001.
Bernice J. Carney,
Director, Office of Administration.

[FR Doc. 01-15361 Filed 6-18-01; 8:45 am]

BILLING CODE 6820-AR-M